DEPARTMENT OF ENERGY

Federal Energy Regulatory Commission

Combined Notice of Filings #3

Take notice that the Commission received the following electric rate filings:

Docket Numbers: ER11-4157-001.

Applicants: Entergy Arkansas, Inc.

Description: SRW IOA Compliance Filing to be effective 9/27/2011.

Filed Date: 4/12/12.

Accession Number: 20120412-5054.

Comments Due: 5 p.m. ET 5/3/12.

Docket Numbers: ER12-1347-001.

Applicants: Carolina Power & Light Company.

Description: Amendment to Rate Schedule No. 190 of Carolina Power and Light Company to be effective 12/31/9998.

Filed Date: 4/12/12.

Accession Number: 20120412-5129.

Comments Due: 5 p.m. ET 4/19/12.

Docket Numbers: ER12-1524-000.

Applicants: Kleantricity, Inc.

Description: Kleantricity MBRA Application to be effective 7/1/2012.

Filed Date: 4/12/12.

Accession Number: 20120412-5081.

Comments Due: 5 p.m. ET 5/3/12.

Docket Numbers: ER12-1525-000.

Applicants: NRG Solar Alpine LLC.

Description: Application for Market-Based Rate Authority to be effective 6/11/2012.

Filed Date: 4/12/12.

Accession Number: 20120412-5124.

Comments Due: 5 p.m. ET 5/3/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 12, 2012.
Nathaniel J. Davis, Sr.,
Deputy Secretary.

[FR Doc. 2012-9561 Filed 4-19-12; 8:45 am]

BILLING CODE 6717-01-P